DEPARTMENT OF LABOR

Employment and Training Administration

[TA-W-80,459]

Roseburg Forest Products Composite Panels Division Missoula, Montana; Notice of Negative Determination on Reconsideration

On March 14, 2012, the Department of Labor (Department) issued an Affirmative Determination Regarding Application for Reconsideration for the workers and former workers of Roseburg Forest Products, Composite Panels Division, Missoula, Montana (subject firm). The Department's Notice was published in the Federal Register on March 26, 2012 (77 FR 17524). The workers are engaged in employment related to the production of particleboard.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination based on the findings that worker separations were not attributable to either increased imports by the subject firm or its declining customers of particleboard (or articles like or directly competitive with particleboard), or a shift/acquisition of the production of particleboard (or articles like or directly competitive with particleboard) to/from a foreign country by the workers' firm.

In the request for reconsideration, a company official alleged that workers at the subject firm were impacted by increased import competition of particleboard similar to workers at three other subject firm facilities who are eligible to apply for Trade Adjustment Assistance (Louisville, Missouri; Orangeburg, South Carolina; and Russellville, South Carolina).

During the reconsideration investigation, the Department reviewed and confirmed information collected during the initial investigation and collected additional information from the subject firm.

The reconsideration investigation findings confirmed that neither the subject firm nor its major declining customers increased imports of articles like or directly competitive with particleboard in the period under investigation. Additionally, the reconsideration investigation findings confirmed that the subject firm did not shift the production of particleboard (or a like or directly competitive article) to a foreign country or acquire the production of such articles from a foreign country.

After careful review of the request for reconsideration, previously-submitted information, and information obtained during the reconsideration investigation, the Department determines that 29 CFR 90.18(c) has not been met.

Conclusion

After careful review, I determine that the requirements of Section 222 of the Act, 19 U.S.C. 2272, have not been met and, therefore, deny the petition for group eligibility of to apply for adjustment assistance, in accordance with Section 223 of the Act, 19 U.S.C. 2273.

Signed in Washington, DC, on this 25th day of May, 2012.
Del Min Amy Chen,
Certifying Officer, Office of Trade Adjustment Assistance.

[FR Doc. 2012-14194 Filed 6-11-12; 8:45 am]

BILLING CODE 4510-FN-P